DEPARTMENT OF THE INTERIOR

Office of Surface Mining Reclamation and Enforcement

[S1D1S SS08011000 SX064A000 189S180110; S2D2S SS08011000 SX064A00 18XS501520]

Notice To Reopen the Public Comment Period on the Western Energy Company's Rosebud Mine Area F Draft Environmental Impact Statement

AGENCY: Office of Surface Mining Reclamation and Enforcement (OSMRE), Interior.

ACTION: Reopening and extension of the public comment period.

SUMMARY: OSMRE and the co-lead agency on the Environmental Impact Statement (EIS), Montana Department of Environmental Quality (DEQ), are allowing additional time for the public to submit comments on the Draft Environmental Impact Statement (Draft EIS) for the Western Energy Company's Rosebud Mine Area F (Project). We are reopening the comment period and will accept comments received from February 20, 2018 to March 5, 2018.

DATES: To ensure consideration in developing the EIS, we must receive your electronic or written comments on or before March 5, 2018.

ADDRESSES: The Draft EIS is available for review at: https://www.wrcc.osmre.gov/initiatives/westernEnergy/documentLibrary.shtm. Paper and computer compact disk (CD) copies of the Draft EIS are available for review at the OSMRE Western Region Office, 1999 Broadway Street, Suite 3320, Denver, Colorado 80202. In addition, a paper and CD copy of the Draft EIS is available for review at each of the following locations:

Rosebud County Library, 201 North 9th Avenue, Forsyth, MT 59327, Between the hours of 11:00 a.m. and 7:00 p.m. Monday through Thursday; 11:00 a.m. to 5:00 p.m. Friday; 10:00 a.m. to 1:00 p.m. Saturday (Closed Sunday).

Montana DEQ Headquarters (Lee Metcalf Building), 1520 East 6th Avenue, Helena, MT 59620, Between the hours of 8:00 a.m. and 5:00 p.m. Monday through Friday (Closed Saturday and Sunday).

BLM Miles City Field Office, 111 Garryowen Road, Miles City, MT 59301, Between the hours of 7:45 a.m. and 4:30 p.m. Monday through Friday (Closed Saturday and Sunday).

BLM State Office, Billings, MT, 5001 Southgate Drive, Billings, MT 59101, Between the hours of 8:00 a.m. and 4:00 p.m. Monday through Friday (Closed Saturday and Sunday).

FOR FURTHER INFORMATION CONTACT: Logan Sholar, OSMRE Project Coordinator; Telephone: 303-293-5036; Address: 1999 Broadway Street, Suite 3320, Denver, Colorado 80202-3050; email: lsholar@osmre.gov.

SUPPLEMENTARY INFORMATION: On January 3, 2018 (83 FR 393), we published a notice of availability (NOA) for the Draft EIS for the Western Energy Company's Rosebud Mine Area F (Project), and on January 5, 2018, the U.S. Environmental Protection Agency (EPA) published its NOA (83 FR 678). The NOA requested public comments on the content of the Draft EIS. In OSMRE's NOA, we established that the comment period would close 45 days after the date of publication of the EPA's NOA. The closing date of the public comment period for the NOA, which was published on January 5, 2018, was February 20, 2018. In response to requests for an extension of the comment period, we are reopening the comment period until March 5, 2018. Comments received between February 20, 2018, and March 5, 2018, will be accepted and reviewed.

The January 3, 2018, NOA identified the locations of repositories where the Draft EIS could be reviewed and provided instructions for submitting comments. To summarize, the Draft EIS analyzed the impacts of continued operations at the Rosebud Mine from permitting and developing a new surface mine permit area, known as permit Area F. Western Energy submitted a permit application to DEQ for the proposed 6,746-acre permit Area F (also referred to as the project area) at the Rosebud Mine, which is an existing 25,455-acre surface coal mine annually producing 8.0 to 10.25 million tons of low-sulfur subbituminous coal. If DEQ approves the permit and a Federal mining plan for the Project is approved as proposed, at the current rate of production, the operational life of the Rosebud Mine would be extended by 8 years. Mining operations in the project area, which would commence after all permits and approvals have been secured and a reclamation and performance bond has been posted, would last 19 years. Western Energy estimates that 70.8 million tons of recoverable coal reserves exist in the project area and would be removed during the 19-year operations period. As with other permit areas of the Rosebud Mine, all coal would be combusted locally at the Colstrip and Rosebud Power Plants.

Public Comment Procedures: In accordance with the Council on Environmental Quality's regulations for implementing the National Environmental Policy Act (NEPA) and Interior's NEPA regulations, OSMRE solicits public comments on the Draft EIS. Comments on the Draft EIS may be submitted in writing or by email. At the top of your letter or in the subject line of your message indicate that the comments are “Western Energy Area F Draft EIS Comments.”

You are invited to mail your comments on the Draft EIS to: ATTN: Western Energy Area F EIS C/O: Nicole Bauman, ERO Resources Corporation, 1842 Clarkson Street, Denver, CO 80218. You may also submit your comments electronically to http://svc.mt.ogv/deq/publiccomment or by email to the following email address: western-energy-area-f-eis@eroresources.com. Be specific in your comments and indicate the chapter, page, paragraph, and sentence that your comment applies to.

All submissions from organizations or businesses, and from individuals identifying themselves as representatives or officials of organizations or businesses, will be available for public review to the extent consistent with applicable law.

Before including your address, phone number, email address, or other personal identifying information in your comment, you should be aware that your entire comment—including your personal identifying information—may be publicly available at any time. While you can ask us in your comment to withhold your personal identifying information from public review, we cannot guarantee that we will be able to do so. Comments submitted anonymously will be accepted and considered; however, those who submit anonymous comments may not have standing to appeal the subsequent decision.

If you would like to be placed on the mailing list to receive future information, please contact the person listed under FOR FURTHER INFORMATION CONTACT.

Authority: 40 CFR 1506.6, 40 CFR 1506.1.

Dated: February 22, 2018.
Glenda H. Owens,
Deputy Director.

[FR Doc. 2018-04068 Filed 2-27-18; 8:45 am]

BILLING CODE 4310-05-P